DEPARTMENT OF TRANSPORTATION

Federal Aviation Administration

14 CFR Part 39

[Docket No. FAA-2015-0087; Directorate Identifier 2014-NM-234-AD; Amendment 39-18098; AD 2015-03-02]

RIN 2120-AA64

Airworthiness Directives; Airbus Airplanes

AGENCY: Federal Aviation Administration (FAA), Department of Transportation (DOT).

ACTION: Final rule; request for comments.

SUMMARY: We are adopting a new airworthiness directive (AD) for certain Airbus Model A319-115, A319-133, A320-214, A320-232, and A320-233 airplanes. This AD requires repetitive detailed inspections of the outboard main landing gear (MLG) support rib lower flange fasteners for discrepancies, and corrective actions if necessary. This AD was prompted by reports of failure of certain fasteners on the MLG support rib lower flange. We are issuing this AD to detect and correct discrepancies of the fasteners at the outboard MLG support rib lower flange, which could result in an airplane not meeting its maximum loads expected in service. This condition could result in structural failure.

DATES: This AD becomes effective February 24, 2015.

The Director of the Federal Register approved the incorporation by reference of a certain publication listed in this AD as of February 6, 2015 (80 FR 3155, January 22, 2015).

We must receive comments on this AD by March 26, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0087; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

The European Aviation Safety Agency (EASA), which is the Technical Agent for the Member States of the European Union, has issued Airworthiness Directive 2014-0270R1, dated December 15, 2014 (referred to after this as the Mandatory Continuing Airworthiness Information, or “the MCAI”), to correct an unsafe condition on certain Airbus Model A319-115, A319-133, A320-214, A320-232, and A320-233 airplanes. The MCAI states:

During production of wings, a number of taperlok fasteners were found failed after installation. The fasteners in question are located at the bottom skin of the Main Landing Gear (MLG) reinforcing plate, wing skin and Gear Support Rib 5 lower flange.

This condition, if not detected and corrected could reduce the design margin of the structure [and could result in structural failure].

Based on the results of the preliminary investigation, this affects only certain A319 and A320 aeroplane Models delivered since January 2014. A321 aeroplanes are not affected, as the wing assembly is done using parallel fasteners. A318 aeroplanes are not affected, since none have been delivered since January 2014.

Prompted by these findings, EASA issued Emergency AD 2014-0270-E [dated December 11, 2014] to require repetitive inspections of the bottom skin taperlok fasteners at the MLG Rib 5 footprint location and, depending on findings, accomplishment of applicable corrective action(s).

Since that [EASA] AD was issued, operator comments have indicated the need for clarification, as well as correction.

For the reason described above, this [EASA] AD is revised to add Notes for information and to correct paragraphs (1) and (2) of the [EASA] AD.

This [EASA] AD is still considered to be an interim action and further AD action may follow.

Required actions include repetitive detailed visual inspections to detect discrepancies (broken or missing fastener tails or nuts) of the outboard MLG support rib lower flange location fasteners, and, depending on findings, accomplishment of applicable corrective action(s). Corrective actions include fastener replacement. You may examine the MCAI on the Internet at http://www.regulations.gov by searching for and locating Docket No. FAA-2015-0087.

Related Rulemaking

On January 7, 2015, the FAA issued AD 2014-26-53, Amendment 39-18068 (80 FR 3155, January 22, 2015), for certain Airbus Model A319-115, A319-133, A320-214, A320-232, and A320-233 airplanes. That AD requires repetitive detailed visual inspections to detect discrepancies of the wing lower skin surface and inboard MLG support rib lower flange location fasteners and, depending on findings, accomplishment of applicable corrective action(s).

The preamble to AD 2014-26-53, Amendment 39-18068 (80 FR 3155, January 22, 2015), explains that EASA AD 2014-0270R1, dated December 15, 2014, specifies to do repetitive detailed visual inspections of the outboard MLG support rib lower flange fasteners and nuts. However, those inspections were not required by AD 2014-26-53 because the specified compliance time for those actions was four months, and the FAA was considering further rulemaking to require those inspections. We now have determined that further rulemaking is indeed necessary, and this AD follows from that determination.

This new AD applies to the same airplane models as AD 2014-26-53, Amendment 39-18068 (80 FR 3155, January 22, 2015), but requires repetitive detailed visual inspections of the outboard MLG support rib lower flange fasteners for discrepancies (broken or missing fastener tails or nuts) and fastener replacement if applicable.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

Differences Between This AD and the MCAI or Service Information

In addition to specifying detailed visual inspections of the outboard MLG support rib lower flange fasteners for discrepancies, EASA Airworthiness Directive 2014-0270 R1, dated December 15, 2014, specifies to do repetitive detailed visual inspections of the external surface of the left and right lower skin to detect missing or migrating fasteners, and detailed inspections of the inboard MLG support rib lower flange to detect any missing or broken nuts or fastener tails; and corrective actions, if necessary. However, these inspections are not required by this AD. Those actions are required by AD 2014-26-53, Amendment 39-18068 (80 FR 3155, January 22, 2015).

FAA's Determination of the Effective Date

An unsafe condition exists that requires the immediate adoption of this AD. The FAA has found that the risk to the flying public justifies waiving notice and comment prior to adoption of this rule because failure of more than two fasteners at the outboard MLG support rib lower flange could result in an airplane not meeting its maximum loads expected in-service. This condition could result in failure of the structure. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2015-0087; Directorate Identifier 2014-NM-234-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 80 airplanes of U.S. registry.

We also estimate that it will take about 1 work-hour per product to comply with the basic requirements of this AD. The average labor rate is $85 per work-hour. Based on these figures, we estimate the cost of this AD on U.S. operators to be $6,800, or $85 per product.

In addition, we estimate that any necessary follow-on actions will take about 3 work-hours and require parts costing $400 per fastener, for a cost of $655 per fastener replacement. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-03-02 Airbus: Amendment 39-18098. Docket No. FAA-2015-0087; Directorate Identifier 2014-NM-234-AD.

(a) Effective Date

This AD becomes effective February 24, 2015.

(b) Affected ADs

None.

(c) Applicability

This AD applies to Airbus Model A319-115, A319-133, A320-214, A320-232, and A320-233 airplanes, certificated in any category, manufacturer serial numbers (MSN) 5817, 5826, 5837, 5848, 5855, 5864, 5875, 5886, 5896, and 5910, and MSNs 5918 and subsequent.

(d) Subject

Air Transport Association (ATA) of America Code 57, Wings.

(e) Reason

This AD was prompted by reports of failure of certain fasteners on the main landing gear (MLG) support rib lower flange. We are issuing this AD to detect and correct discrepancies of the fasteners at the outboard MLG support rib lower flange, which could result in an airplane not meeting its maximum loads expected in service. This condition could result in structural failure.

(f) Compliance

Comply with this AD within the compliance times specified, unless already done.

(g) Repetitive Inspections

Within 4 months after the effective date of this AD, or within 4 months after the date of issuance of the original certificate of airworthiness or the original export certificate of airworthiness, or before further flight for any airplane that is not in operation for more than 4 months, whichever occurs latest: Do a detailed visual inspection of the left and right outboard MLG support rib lower flange to detect any discrepancy (broken or missing fastener tails or nuts), in accordance with Airbus Alert Operators Transmission (AOT) A57N006-14, Revision 00, dated December 4, 2014. Repeat the inspection thereafter at intervals not to exceed 4 months.

(h) Corrective Actions for the Inspections Required by Paragraph (g) of This AD

If, during any inspection required by paragraph (g) of this AD, any discrepancy is found on the left or right outboard MLG support rib lower flange: Before further flight, replace all affected fasteners on the affected side(s), in accordance with Airbus AOT-A57N006-14, Revision 00, dated December 4, 2014. Replacement of fasteners on an airplane does not constitute terminating action for the repetitive inspections required by paragraph (g) of this AD.

(i) Other FAA Provisions

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(j) Special Flight Permits

Special flight permits, as described in Section 21.197 and Section 21.199 of the Federal Aviation Regulations (14 CFR 21.197 and 21.199), are not allowed.

(k) Related Information

Refer to Mandatory Continuing Airworthiness Information (MCAI) EASA Airworthiness Directive 2014-0270R1, dated December 15, 2014, for related information. You may examine the MCAI on the Internet at http://www.regulations.gov by searching for and locating Docket No. FAA-2015-0087.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on February 6, 2015 (80 FR 3155, January 22, 2015).

(i) Airbus Alert Operators Transmission A57N006-14, Revision 00, dated December 4, 2014.

(ii) Reserved.

(4) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on January 30, 2015.
Jeffrey E.Duven,
Manager, Transport Airplane Directorate, Aircraft Certification Service.

[FR Doc. 2015-02407 Filed 2-6-15; 8:45 am]

BILLING CODE 4910-13-P